DEPARTMENT OF ENERGY

Federal Energy Regulatory Commission

[Docket No. EL06-20-000]

Wisconsin Public Service Corporation, Upper Peninsula Power Company, WPS Energy Services, Inc., WPS Power Development, L.L.C. Complainants v. Midwest Independent Transmission System Operator, Inc. and PJM Interconnection, L.L.C. Respondents; Notice of Complaint

November 29, 2005.

Take notice that on November 23, 2005, Wisconsin Public Service Corporation, Upper Peninsula Power Company, WPS Energy Services, Inc. and WPS Power Development, L.L.C. (collectively, WPS Companies) filed a formal complaint against the Midwest Independent Transmission System Operator, Inc. and PJM Interconnection, L.L.C. (RTOs) pursuant to section 206 of the Federal Power Act and 18 CFR 385.206, alleging that the RTOs' October 31, 2005, compliance filing in Docket Nos. ER04-375-017 and 018 fails to satisfy the Commission's directives to form a comprehensive Joint and Common Market.

The WPS Companies certify that copies of the complaint were served on the contacts for the Midwest Independent Transmission System Operator, Inc. and PJM Interconnection, L.L.C.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on December 19, 2005.

Magalie R. Salas,
Secretary.

[FR Doc. E5-6951 Filed 12-6-05; 8:45 am]

BILLING CODE 6717-01-P